DEPARTMENT OF THE INTERIOR

Fish and Wildlife Service

Availability of Final Comprehensive Conservation Plan and Summary for Antioch Dunes National Wildlife Refuge, Contra Costa County, CA

AGENCY: Fish and Wildlife Service.

ACTION: Notice of availability.

SUMMARY: The U.S. Fish and Wildlife Service announces that a Final Comprehensive Conservation Plan (CCP) and a Summary for Antioch Dunes National Wildlife Refuge (Refuge) are available for distribution. The CCP, prepared pursuant to the National Wildlife Refuge System Improvement Act of 1997 and in accordance with the National Environmental Policy Act of 1969, describes how the U.S. Fish and Wildlife Service intends to manage the Refuge for the next 15 years. The compatibility determinations for environmental education, interpretation, wildlife observation, and photography, and research are also available with the CCP.

DATES: The Final CCP is available now. The finding of no significant impact (FONSI) was signed on July 29, 2002. Implementation of the plan began after the FONSI was signed.

ADDRESSES: Copies of the Final CCP or Summary may be obtained by writing to U.S. Fish and Wildlife Service, Attn: Leslie Lew, California/Nevada Refuge Planning Office, Room W-1916, 2800 Cottage Way, Sacramento, California, 95825. Copies of the plan may be viewed at this address or at the San Francisco Bay NWR Complex Headquarters, #1 Marshlands Road, Fremont, California. The Final CCP will also be available online for viewing and downloading at http://pacific.fws.gov/planning.

FOR FURTHER INFORMATION CONTACT: Leslie Lew, U.S. Fish and Wildlife Service, California/Nevada Refuge Planning Office, Room W-1916, 2800 Cottage Way, Sacramento, California, 95825; 916-414-6500; fax 916-414-6512.

SUPPLEMENTARY INFORMATION:

Background

The Refuge was the first National Wildlife Refuge in the country established to protect endangered plants and insects. Created in 1980 by the U.S. Fish and Wildlife Service (Service), this riverside refuge provides protection and critical habitat for three endangered species; Lange's metalmark butterfly (Apodemia mormo langei) (Lange's), Contra Costa wallflower (Erysimum capitatum ssp. angustatum) (wallflower), and Antioch Dunes evening primrose (Oenothera deltoides ssp. howeellii) (primrose). The Refuge, 55-acres of former dunes, in addition to an adjacent 12 acres of Pacific Gas and Electric Company (PG&E) land, is an isolated patch of what was once a larger dune system that hosted a unique assemblage of plants, insects, and reptiles. The Refuge staff is based in the San Francisco Bay National Wildlife Refuge Complex office in Fremont, California.

The availability of the Draft CCP/Environmental Assessment (EA) for 30-day public review and comment was noticed in the Federal Register on Friday, November 2, 2001 in Volume 66, Number 213. The Draft CCP/EA identified and evaluated four alternatives for managing the Refuge for the next 15 years. Alternative A was the no-action alternative—current Refuge management would continue. Alternative B emphasized restoring and managing the Refuge to pre-industrial natural conditions (oak woodland on sandy soils) with limited and controlled public access. Alternative C emphasized managing the Refuge as a mosaic of dune habitat at varying successional stages with unrestricted public access. Alternative D was very similar to Alternative C with the exception that public use would be limited and controlled. The Service received 9 comment letters on the Draft CCP. The comments received were incorporated into the CCP and are responded to in an appendix to the CCP. Alternative D was selected as the Service's preferred alternative for a CCP.

With the Refuge management program described in the Final CCP, nonnative weeds will continue to be controlled using land weeding, herbicides, and prescribed fire. The Service would create a cycle of disturbance by scraping the soil in a mosaic pattern. In addition, the Service will plan to construct additional dunes using imported sand in the areas that currently do not provide good habitat for endangered species. The Refuge's outplanting program would be expanded to include other native plant species, especially plants that are either locally significant and/or were historically present. The Service will continue monitoring the primrose, wallflower, and Lange's populations and encouraging research on the Refuge. With funding, additional studies will be undertaken to assess the effects of management actions on other plants and animals, including reptiles and invertebrates, at the Refuge. Nonnative weeds such as Ailanthus and Oleander would be removed from the river shore to the extent possible and be replaced with native species. Parts of the river bank would be allowed to erode so that the endangered plants could colonize them. Refuge staff would explore other opportunities for dune and riparian habitat protection and restoration in the vicinity of the Refuge. The CCP directs that the Refuge be open to restricted and controlled public access as staff and funding permit. Environmental education, interpretation, wildlife observation, and photography would be allowed on the Refuge with visitors accompanied by Refuge staff or Refuge volunteers. Regularly scheduled tours of the Refuge would be conducted by Refuge staff. An outreach program would be developed to help expand the Refuge's presence and support in the community. Interpretive programs and facilities would be developed, including an automobile pull-out with an interpretive kiosk. The Service would also promote the Refuge with teachers and develop an educator-led curriculum for Refuge resources.

Dated: August 23, 2002.
Daniel S. Walsworth,
Acting Manager, California/Nevada Operations Office, Fish and Wildlife Service, Sacramento, California.

[FR Doc. 02-22433 Filed 9-3-02; 8:45 am]

BILLING CODE 4310-55-M